DEPARTMENT OF TRANSPORTATION

Office of the Secretary

49 CFR Part 26

[Docket No. OST-2012-0147]

RIN 2105-AE08

Disadvantaged Business Enterprise: Program Implementation Modifications

AGENCY: Office of the Secretary (OST), DOT.

ACTION: Notice of Proposed Rulemaking (NPRM); Correction; Extension of Comment Period.

SUMMARY: The Department is correcting a notice of proposed rulemaking (NPRM) published in the Federal Register. In that document, the Department proposed, among other modifications, to change the Uniform Report of DBE Commitments/Awards and Payments form found in our regulations. As this is an information collection covered by the Paperwork Reduction Act (PRA), the Department should have included a discussion of this collection in the “Paperwork Reduction Act” section of the NPRM in order to comply with the PRA's procedural requirements. Today, the Department is correcting this omission by including discussion of the Uniform Report collection and providing the public with 60 days from today to comment both on this collection and all other aspects of the NPRM. Thus, the original end of the comment period, November 5, 2012, has been extended until December 24, 2012.

DATES: The comment period will close December 24, 2012.

FOR FURTHER INFORMATION CONTACT: Jo Anne Robinson, Office of General Law, U.S. Department of Transportation, 1200 New Jersey Avenue SE., Washington, DC 20590, 202-366-6984, joanne.robinson@dot.gov.

SUPPLEMENTARY INFORMATION:

Background

On September 6, 2012, the Department published a notice of proposed rulemaking (NPRM) entitled, “Disadvantaged Business Enterprise: Program Implementation Modifications” in the Federal Register (77 FR 54952).

In that NPRM, the Department proposed various modifications of the Disadvantaged Business Enterprise (DBE) Program, including four proposed modifications to existing and/or new information collections. In the Preamble, the Department also proposed various modifications to the Uniform Report of DBE Commitments/Awards and Payments form found in Appendix B of 49 CFR part 26. This information collection is associated with OMB Control Number 2105-0510, which had expired during the drafting of the NPRM and which the Department was in the process of reinstating with this rulemaking. However, the Department inadvertently omitted discussion of this information collection in the “Paperwork Reduction Act” section of the NPRM.

Today, the Department is correcting this omission in order to comply with the procedural requirements of the PRA and give the public adequate time to comment on this collection. As part of these requirements, the Department must give the public 60 days to comment on this proposed revised information collection. In order to prevent confusion between comments about this collection and comments to the NPRM in general, the Department has decided to extend the comment period for the NPRM as a whole until 60 days after today. Thus, the comment deadline for all aspects of this NPRM is December 24, 2012, meaning that the Department has granted a 49-day extension to the original comment period. This extension is also consistent with informal requests to extend the comment period that the Department has recently received.

Correction

The Department is making the following correction in FR document number OST-2012-0147, appearing at the bottom of the third column on page 54967 in the Federal Register of Thursday, September 6, 2012 by adding this additional item under the “Paperwork Reduction Act” section:

5. Uniform Report of DBE Commitments/Awards and Payments

As part of this rulemaking, the Department is intending to reinstate the information collection entitled, “Uniform Report of DBE Commitments/Awards and Payments,” OMB Control No. 2105-0510, consistent with the changes proposed in this NPRM. This collection requires that DOT Form 4630 be submitted once or twice per year by each recipient having an approved DBE program. The report form is collected from recipients by FHWA, FTA, and FAA, and is used to enable DOT to conduct program oversight of recipients' DBE programs and to identify trends or problem areas in the program. This collection is necessary for the Department to carry out its oversight responsibilities of the DBE program, since it allows the Department to obtain information from the recipients about the DBE participation they obtain in their programs.

In this NPRM, the Department proposes to modify certain aspects of this collection in response to issues raised by stakeholders: (1) Creating separate forms for routine DBE reporting and for transit vehicle manufacturers (TVMs) and mega projects; (2) amending and clarifying the report's instructions to better explain how to fill out the forms; and (3) changing the forms to better capture the desired DBE data on a more continuous basis, which should also assist with recipients' post-award oversight responsibilities. This NPRM also discusses criticisms raised by GAO and, while not proposing to directly change the form based on this input, does request comment on the advisability of doing so.

Frequency: Once or twice per year.

Estimated Average Burden per Response: 5 hours per response.

Number of Respondents: 1,250. The Department estimates that approximately 550 of these respondents prepare two reports per year, while approximately 700 prepare one report per year.

Estimated Burden: 9,000 hours.

Dated: Issued this 17th day of October, 2012 at Washington, DC.
Robert S. Rivkin,
General Counsel.

[FR Doc. 2012-26160 Filed 10-24-12; 8:45 am]

BILLING CODE 4910-9X-P